ENVIRONMENTAL PROTECTION AGENCY

[EPA-HQ-OPP-2018-0578; FRL-9984-18]

Pesticide Product Registration; Receipt of Applications for New Active Ingredients

AGENCY: Environmental Protection Agency (EPA).

ACTION: Notice.

SUMMARY: EPA has received applications to register pesticide products containing active ingredients not included in any currently registered pesticide products. Pursuant to the Federal Insecticide, Fungicide, and Rodenticide Act (FIFRA), EPA is hereby providing notice of receipt and opportunity to comment on these applications.

DATES: Comments must be received on or before November 14, 2018.

ADDRESSES: Submit your comments, identified by the Docket Identification (ID) Number and the File Symbol of interest as shown in the body of this document, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: Robert McNally, Biopesticides and Pollution Prevention Division (7511P), Office of Pesticide Programs, Environmental Protection Agency, 1200 Pennsylvania Ave. NW, Washington, DC 20460-0001; main telephone number: (703) 305-7090; email address: BPPDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Registration Applications

EPA has received applications to register pesticide products containing active ingredients not included in any currently registered pesticide products. Pursuant to the provisions of FIFRA section 3(c)(4) (7 U.S.C. 136a(c)(4)), EPA is hereby providing notice of receipt and opportunity to comment on these applications. Notice of receipt of these applications does not imply a decision by the Agency on these applications.

III. New Active Ingredients

1. File Symbol: 67690-IE. Docket ID number: EPA-HQ-OPP-2018-0096. Applicant: SePRO Corporation, 11550 North Meridian St., Suite 600, Carmel, IN 46032. Product name: SP2700 2%. Active ingredient: Plant activator and fungicide—Ningnanmycin at 2.0%. Proposed use: For control of fungal and viral diseases on cherries, cucurbits, grapes, lettuce, ornamentals, peppers, pome fruits, snap beans, strawberries, tobacco, tomatoes, rice, seed treatment, soybean, wheat, and turf.

2. File Symbol: 67690-IG. Docket ID number: EPA-HQ-OPP-2018-0096. Applicant: SePRO Corporation, 11550 North Meridian St., Suite 600, Carmel, IN 46032. Product name: SP2700 Technical. Active ingredient: Plant activator and fungicide—Ningnanmycin at 2%. Proposed use: Manufacturing use.

3. File Symbol: 87978-A. Docket ID number: EPA-HQ-OPP-2018-0570. Applicant: AgBiTech Pty Ltd, 8 Rocla Ct., Glenvale, Queensland 4350, Australia (c/o MacIntosh & Associates, Inc., 1203 Hartford Ave., St. Paul, MN 55116-1622). Product name: Surtivo Soy. Active ingredients: Insecticides—Chrysodeixis includens Nucleopolyhedrovirus isolate #460 at 17.1% and Helicoverpa armigera Nucleopolyhedrovirus ABA-NPV-U at 17.1%. Proposed use: Field and greenhouse.

4. File Symbol: 87978-L. Docket ID number: EPA-HQ-OPP-2018-0570. Applicant: AgBiTech Pty Ltd, 8 Rocla Ct., Glenvale, Queensland 4350, Australia (c/o MacIntosh & Associates, Inc., 1203 Hartford Ave., St. Paul, MN 55116-1622). Product name: ChinNPV Liquid Formulation. Active ingredient: Insecticide—Chrysodeixis includens Nucleopolyhedrovirus isolate #460 at 32.0%. Proposed use: Field and greenhouse.

5. File Symbol: 91873-R. Docket ID number: EPA-HQ-OPP-2018-0122. Applicant: Evolva, Duggingerstrasse 23, 4153 Reinach, Switzerland (c/o SciReg Inc., 12733 Director's Loop, Woodbridge, VA 22192). Product name: Nootkatone. Active ingredient: Insecticide and arachnicide—Nootkatone at 99.4%. Proposed use: Manufacturing use.

Authority: 7 U.S.C. 136 et seq.

Dated: October 1, 2018.
Delores Barber,
Director, Information Technology and Resources Management Division, Office of Pesticide Programs.

[FR Doc. 2018-22392 Filed 10-12-18; 8:45 am]

BILLING CODE 6560-50-P